DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-046427

Applicant: Ocean Journey, Denver, Colorado.

Applicant requests a permit for acquisition, propagation, educational display, and recovery purposes for the Desert pupfish (Cyprinodon macularius) at Colorado's Ocean Journey public aquarium in Denver, Colorado.

Permit No. TE-024755

Applicant: Bureau of Land Management, Kingman Field Office, Kingman, Arizona.

Applicant requests an amendment to an existing permit to allow presence/absence surveys for the Yuma clapper rail (Rallus longirostris yumanensis) for recovery purposes within Mohave and Yavapai Counties of Arizona.

Permit No. TE-047349

Applicant: The Oklahoma City Zoo, Oklahoma City, Oklahoma.

Applicant requests a permit for acquisition, propagation, educational display, and recovery purposes for the following species: Bonytail chub (Gila elegans); Razorback sucker (Xyrauchen texanus); Colorado pikeminnow (Ptychocheilus lucius) for their facility in Oklahoma City, Oklahoma.

Permit No. TE-046941

Applicant: Nelson Consulting, Inc., Farmington, New Mexico.

Applicant requests a permit for recovery purposes to conduct surveys for the following species: Southwestern willow flycatcher (Empidonax traillii extimus); Black-footed ferret (Mustela nigripes); Knowlton cactus (Pediocactus knowltonii); Mancos milk-vetch (Astragalus humillimus) and Mesa Verde cactus (Sclerocactus mesae-verdae) within New Mexico.

Permit No. TE-041879

Applicant: Michele Johnson, Houston, Texas.

Applicant requests a permit for rehabilitation and recovery purposes for the Kemp's Ridley sea turtle (Lepidochelys kempii) within Texas.

Permit No. TE-831540

Applicant: City of San Marcos, San Marcos, Texas.

Applicant requests a permit for recovery purposes and educational display for the following species: Fountain darter (Etheostroma fonticola); Texas blind salamander (Typhlomolge rathbuni) at their facility in San Marcos, Texas.

Permit No. TE-045236

Applicant: SWCA, Inc. Albuquerque, New Mexico.

Applicant requests a permit for recovery purposes to conduct surveys for the Interior least tern (Sterna antillarum) within New Mexico.

DATES: Written comments on these permit applications must be received within 30 days of the date of publication.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Bryan Arroyo,
Assistant Regional Director, Ecological Services, Region 2, Albuquerque, New Mexico.

[FR Doc. 01-23414 Filed 9-19-01; 8:45 am]

BILLING CODE 4310-55-P